DEPARTMENT OF HEALTH AND HUMAN SERVICES

Centers for Disease Control and Prevention

Notice of Award of a Single-Source Cooperative Agreement To Fund the Tanzanian Ministry of Health

AGENCY: Centers for Disease Control and Prevention (CDC), Department of Health and Human Services (HHS).

ACTION: Notice.

SUMMARY: The Centers for Disease Control and Prevention (CDC), located within the Department of Health and Human Services (HHS), announces the award of approximately $5,000,000, for Year 1 funding to the Tanzania Ministry of Health (MOH). The award will strengthen capacity and maximize the efficiency in achieving HIV epidemic control and sustaining the MOH response to the HIV epidemic in the United Republic of Tanzania. Funding amounts for years 2-5 will be set at continuation.

DATES: The period for this award will be September 30, 2023, through September 29, 2028.

FOR FURTHER INFORMATION CONTACT: Gbolahan Cole, Center for Global Health, Centers for Disease Control and Prevention, 2448 Albert Luthuli Rd., NIMR Complex | P.O. Box 9123, Dar es Salaam, Tanzania, Telephone: 012-424-9000, Email: yka7@cdc.gov.

SUPPLEMENTARY INFORMATION: The single-source award will support the Tanzanian MOH to ensure a comprehensive, coordinated, and strategic approach to the HIV response by organizing policies and interventions: along the continuum of HIV prevention, identification, treatment, and support; focusing on specific vulnerable populations; supported by reliable epidemiologic and program data.

The MOH is in a unique position to conduct this work, as it is currently the only appropriate and qualified entity to conduct a specific set of activities supportive of the CDC and PEPFAR goals for enhancing HIV prevention, care, and treatment services.

Summary of the Award

Recipient: Tanzanian Ministry of Health (MOH).

Purpose of the Award: The purpose of this award is to is to strengthen capacity and maximize the efficiency in achieving HIV epidemic control and sustaining the MOH response to the HIV epidemic in the United Republic of Tanzania.

Amount of Award: The approximate year 1 funding amount will be $5,000,000 in Federal Fiscal Year (FYY) 2023 funds, subject to the availability of funds. Funding amounts for years 2-5 will be set at continuation.

Authority: This program is authorized under Public Law 108-25 (the United States Leadership Against HIV AIDS, Tuberculosis and Malaria Act of 2003).

Period of Performance: September 30, 2023 through September 29, 2028.

Dated: March 9, 2023.
Terrance Perry,
Chief Grants Management Officer, Centers for Disease Control and Prevention.

[FR Doc. 2023-05253 Filed 3-14-23; 8:45 am]

BILLING CODE 4163-18-P